DEPARTMENT OF ENERGY

Federal Energy Regulatory Commission

[Docket No. IS20-83-000]

Ship Shoal Pipeline Company; Notice of Technical Conference

Take notice that a technical conference will be held Wednesday, March 3, 2020 at 10:00 a.m. (Eastern Standard Time), in a room to be designated, at the offices of the Federal Energy Regulatory Commission (Commission), 888 First Street NE, Washington, DC 20426.

At the technical conference, the Commission Staff and the parties to the proceeding should be prepared to discuss all issues raised by the filing as stated by the Commission in its December 30, 2019 order.¹ All interested persons are permitted to attend.

¹ Ship Shoal Pipeline Co., 169 FERC ¶ 61,259 (2019).

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference please contact Adrianne Cook at (202) 502-8849 or adrianne.cook@ferc.gov, or Glenna Riley at (202) 502-8620 or glenna.riley@ferc.gov.

Dated: January 30, 2020.
Kimberly D. Bose,
Secretary.

[FR Doc. 2020-02284 Filed 2-5-20; 8:45 am]

BILLING CODE 6717-01-P